DEPARTMENT OF COMMERCE

National Oceanic and Atmospheric Administration

[I.D. 120902C]

Proposed Information Collection; Comment Request; Gulf of Mexico Shrimp Economic Data Collection

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before February 11, 2003.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Michael Travis, Department of Commerce, NOAA, National Marine Fisheries Service, 9721 Executive Center Drive North, St, Petersburg, FL 33702-2439, (727)570-5335.

SUPPLEMENTARY INFORMATION:

I. Abstract

NMFS proposes to collect information on fishing vessel expenses and earnings on a voluntary and continuous basis in the Gulf of Mexico offshore shrimp fishery in order to conduct socioeconomic analyses that will: improve fishery management making in that fishery; satisfy NMFS' legal mandates under Executive Order 12866, the Magnuson-Stevens Fishery Conservation and Management Act (U.S.C. 1801 et. seq.), the Regulatory Flexibility Act, the Endangered Species Act, and the National Environmental Policy Act; and quantify achievement of the performances measures in the NMFS Strategic Operating Plans. Used in conjunction with catch and effort data already being collected in this fishery as part of its dealer reporting program, as well as Coast Guard and fishing permit data on vessel characteristics, this data will be used to assess how fishermen will be impacted by and respond to any regulation likely to be considered by fishery managers. In addition, this data will be used to determine how fishing communities will be impacted by proposed fishing regulations. In the program's first year, the program will only cover vessels that primarily port in the state of Texas, with vessels from the other Gulf States being included in the second year.

II. Method of Collection

Data will be collected using personal interviews and a formal survey instrument. Compared to phone interviews and mail surveys, personal interviews have been shown to generally produce higher response rates and higher quality data. Interviews will be conducted once each year in regards to the previous year's activities. Vessel owners will be asked questions pertaining to the variable costs of their fishing operations, such as price and amount of fuel used, price and amount of ice used, groceries, processing/selling fees, and labor costs. Vessel owners will also be asked questions regarding their vessel's annual or fixed costs, such as expenditures for vessel repair and maintenance, gear repair and maintenance, fishing licenses and permits, insurance, dock fees, repayment on boat and business loans, office expenses and so forth. Vessel owners will also be asked questions pertaining to the capital investment in their vessels, such as purchase price, cost of subsequent investments in the vessel and its fishing technology, and current market or replacement value. Finally, vessel owners will be asked questions regarding their socio-demographic status, such as household size, income, dependence on fishing, alternative employment opportunities, level of fishing experience, age, education level, ethnicity/race, marital status, and so forth. In instances where vessels are not operated by the owner, socio-demographic data will be solicited from both the owner and captain. Though unknown at this time, it is assumed that nearly 50 percent of these vessels are operated by hired captains.

III. Data

OMB Number: None.

Form Number: None.

Type of Review: Regular submission.

Affected Public: Business or other for-profit organizations (vessel owners and captains).

Estimated Number of Respondents: 185.

Estimated Time Per Response: 20 minutes for variable cost and price questions; 30 minutes for annual/fixed cost and capital investment questions; and 10 minutes for socio-demographic questions.

Estimated Total Annual Burden Hours: 135.

Estimated Total Annual Cost to Public: $0.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 6, 2002.
Gwellnar Banks,
Management Analyst, Office of the Chief Information Officer.

[FR Doc. 02-31448 Filed 12-12-02; 8:45 am]

BILLING CODE 3510-22-S